DEPARTMENT OF THE INTERIOR

Bureau of Indian Affairs

[AAK6006201 134A2100DD AOR3B3030.999900]

Final Environmental Impact Statement for the Soboba Band of Luiseno Indians' Proposed 534-Acre Trust Acquisition and Casino Project, Riverside County, California

AGENCY: Bureau of Indian Affairs, Interior.

ACTION: Notice of availability.

SUMMARY: This notice advises the public that the Bureau of Indian Affairs (BIA) as lead agency, with the City of San Jacinto and the Environmental Protection Agency (EPA) as cooperating agencies, intends to file a final environmental impact statement (FEIS) with the EPA for the Soboba Band of Luiseno Indians' (Tribe) proposed fee-to-trust acquisition and hotel/casino project to be located in Riverside County, California. This notice also announces that the FEIS is now available for public review.

DATES: The Record of Decision on the application will be issued on or after 30 days from the date the EPA publishes its Notice of Availability in the Federal Register. Any comments on the FEIS must arrive on or before that date.

ADDRESSES: Mail or hand carry written comments to Amy Dutschke, Regional Director, Bureau of Indian Affairs, Pacific Region, 2800 Cottage Way, Sacramento, California 95825. See SUPPLEMENTARY INFORMATION for directions on submitting comments and the public availability of the FEIS.

FOR FURTHER INFORMATION CONTACT: John Rydzik, (916) 978-6051, or at john.rydzik@bia.gov.

SUPPLEMENTARY INFORMATION: The Tribe has requested the BIA to acquire into trust 34 parcels totaling 534.91+/− acres of land currently held in fee by the Tribe, of which the Tribe proposes to develop approximately 55 acres into a destination hotel/casino complex (Proposed Action). Approximately 300 acres (56 percent) of the project site is incorporated in the City of San Jacinto, California, while the remainder is within unincorporated Riverside County, California. The proposed hotel and casino complex would be generally located at the intersection of Soboba Road and Lake Park Drive, in Riverside County and abut the existing Soboba Springs Country Club.

The Tribe proposes to relocate its existing casino, which presently resides on trust lands, to the project site. In addition to the fee-to-trust action and casino relocation, the Proposed Action also includes the development of a 300-room hotel, casino, restaurants, retail establishments, a convention center, an events arena, and a spa and fitness center, within a 729,500+/− square-foot complex. The Proposed Action also includes a Tribal fire station, and a 12-pump gas station with a 6,000 square-foot convenience store.

In addition to the Proposed Action described above, the FEIS included the following alternatives: (1) Reduced Hotel/Casino Complex, (2) Hotel and Convention Center with No Casino Relocation, (3) Commercial Enterprise with No Casino or Hotel, and (4) No Action Alternative. The BIA must conduct a complete evaluation of the criteria listed in 25 CFR part 151 prior to making a final decision. The BIA may, in its Record of Decision, select an alternative other than the Proposed Action, including the No Action Alternative or another alternative analyzed in the FEIS.

Environmental issues addressed within the FEIS included land resources, water resources, air quality, biological resources, cultural/paleontological resources, economic and socioeconomic conditions, transportation, land use, agriculture, public services, hazardous materials, noise, visual resources, and recreational resources. The FEIS examines the direct, indirect, and cumulative effects of each alternative on these resources. Mitigation measures to address adverse impacts are also identified in the FEIS.

The BIA has afforded other government agencies and the public opportunities to participate in the preparation of this EIS. On December 12, 2007, the BIA sent out cooperating agency letters to various agencies, of which the City of San Jacinto and the EPA agreed to participate. The BIA published a Notice of Intent in the Federal Register on December 14, 2007, describing the Proposed Action, announcing the BIA's intent to prepare an EIS for the Proposed Action, and inviting comments. The public comment period was extended to January 25, 2008, to ensure that all parties had an opportunity to submit comments; however, comments received after this deadline and until March 11, 2008, were accepted. The BIA held a public hearing on January 8, 2008, at the Hemet Public Library. Prior to public circulation, an administrative version of the Draft EIS was circulated to the cooperating agencies (EPA and City of San Jacinto) for review and comment. Comments were taken into consideration and changes were made based on these comments before the public release of the document. The Notice of Availability of the Draft EIS was published in the Federal Register on July 2, 2009. A public hearing was held in the City of Hemet on August 5, 2009. Approximately 250 comments were received during the comment period, including those submitted or recorded at the public hearing. Comments were considered in the preparation of the FEIS; responses to the comments are included in Appendix E of the FEIS and relevant information was revised in the FEIS as appropriate to address those comments.

Locations where the FEIS is Available for Review: The FEIS is available for public review at the San Jacinto Public Library, 500 Idyllwild Drive, San Jacinto, California 92583, telephone (951) 654-8635; and the Hemet Public Library, 2nd Floor, 300 E. Latham, Hemet, California 92543, telephone (951) 765-2440. An electronic version of the FEIS can also be viewed at the following Web site: http://www.soboba-nsn.gov.

Directions for Submitting Comments: Please include your name, return address, and the caption, ““FEIS Comments, Soboba Horseshoe Grande Fee-to-Trust Project” on the first page of your written comments and submit comments to the BIA address listed in the ADDRESSES section of this notice.

To obtain a compact disk copy of the FEIS, please provide your name and address in writing or by voicemail to John Rydzik, Chief of the Division of Environmental, Cultural Resources Management and Safety, at the address listed in the ADDRESSES section of this notice, or at the telephone number listed in the FOR FURTHER INFORMATION CONACT section of this notice. Note that individual paper copies of the FEIS will be provided only upon payment of applicable printing expenses by the requestor for the number of copies requested.

Public Comment Availability: Comments, including the names and addresses of respondents, will be available for public review at the BIA mailing address shown in the ADDRESSES section, during regular business hours, 8:00 a.m. to 5:00 p.m., Monday through Friday, except holidays. Before including your address, telephone number, email address, or other personal identifying information in your comment, you should be aware that your entire comment—including your personal identifying information—may be made publicly available at any time. While you may ask us in your comment to withhold your personal identifying information from public review, we cannot guarantee that we will be able to do so.

Authority: This notice is published in accordance with the Council on Environmental Quality regulations (40 CFR part 1500 et seq.) and the Department of the Interior regulations (43 CFR part 46) implementing the procedural requirements of the National Environmental Policy Act of 1969, as amended (42 U.S.C. 4371 et seq.), and is accordance with the exercise of authority delegated to the Assistant Secretary-Indian Affairs by part 209 of the Departmental Manual.

Dated: November 12, 2013.
Kevin Washburn,
Assistant Secretary—Indian Affairs.

[FR Doc. 2013-28444 Filed 11-27-13; 8:45 am]

BILLING CODE 4310-W7-P